NUCLEAR REGULATORY COMMISSION

[NRC-2018-0059]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from February 27, 2018, to March 12, 2018. The last biweekly notice was published on March 13, 2018.

DATES: Comments must be filed by April 26, 2018. A request for a hearing must be filed by May 29, 2018.

ADDRESSES: You may submit comments by any of the following methods:

• Federal Rulemaking Website: Go to http://www.regulations.gov and search for Docket ID NRC-2018-0059. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Ikeda Betts, U.S. Nuclear Regulatory Commission, Washington, DC 20555-0001; telephone: 301-415-1959, email: Ikeda.Betts@nrc.gov.

SUPPLEMENTARY INFORMATION:

I. Obtaining Information and Submitting Comments

A. Obtaining Information

Please refer to Docket ID NRC-2018-0059, facility name, unit number(s), plant docket number, application date, and subject when contacting the NRC about the availability of information for this action. You may obtain publicly-available information related to this action by any of the following methods:

• Federal Rulemaking Website: Go to http://www.regulations.gov and search for Docket ID NRC-2018-0059.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0059, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Entergy Nuclear Operations, Inc., Docket No. 50-293, Pilgrim Nuclear Power Station (PNPS), Plymouth County, Massachusetts

Date of amendment request: January 12, 2018. A publicly-available version is in ADAMS under Accession No. ML18023A795.

Description of amendment request: The amendment would revise the PNPS Site Emergency Plan (SEP) for the permanently shutdown and defueled condition. The amendment would revise the PNPS on-shift and Emergency Response Organization (ERO) staffing for the permanently shutdown and defueled condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the PNPS SEP do not impact the function of plant structures, systems, or components. The proposed changes do not affect accident initiators or precursors, nor does it alter design assumptions. The proposed changes do not prevent the ability of the on-shift and augmented ERO to perform their intended functions to mitigate the consequences of any accident or event that will be credible in the permanently shut down and defueled condition. The proposed changes only remove positions that will no longer be credited in the PNPS SEP.

Therefore, the proposed amendment does not involve a significant increase in the probability or consequences of an accident previously evaluated.

2. Does the proposed amendment create the possibility of a new or different kind of accident from any accident previously evaluated?

Response: No.

The proposed changes reduce the number of on-shift and augmented ERO positions commensurate with the hazards associated with a permanently shut down and defueled facility. The proposed changes do not involve installation of new equipment or modification of existing equipment, so that no new equipment failure modes are introduced. Also, the proposed changes do not result in a change to the way that the equipment or facility is operated so that no new accident initiators are created.

Therefore, the proposed amendment does not create the possibility of a new or different kind of accident from any previously evaluated.

3. Does the proposed amendment involve a significant reduction in a margin of safety?

Response: No.

Margin of safety is associated with confidence in the ability of the fission product barriers (i.e., fuel cladding, reactor coolant system pressure boundary, and containment structure) to limit the level of radiation dose to the public. The proposed changes are associated with the PNPS SEP and do not impact operation of the plant or its response to transients or accidents. The changes do not affect the Technical Specifications. The proposed changes do not involve a change in the method of plant operation, and no accident analyses will be affected by the proposed changes.

Safety analysis acceptance criteria are not affected by the proposed changes. The revised PNPS SEP will continue to provide the necessary response staff with the proposed changes.

Therefore, the proposed amendment does not involve a significant reduction in the margin of safety.

The NRC staff has reviewed the licensee's analysis and, based on this review, it appears that the three standards of 50.92(c) are satisfied. Therefore, the NRC staff proposes to determine that the amendment request involves no significant hazards consideration.

Attorney for licensee: William B. Glew, Jr., Associate General Counsel—Nuclear, Legal Nuclear and Environmental, Entergy Nuclear Operations, Inc., 440 Hamilton Avenue, White Plains, NY 10601.

NRC Branch Chief: Douglas A. Broaddus.

Exelon Generation Company, LLC, Docket Nos. 50-352 and 50-353, Limerick Generating Station, Units 1 and 2, Montgomery County, Pennsylvania

Date of amendment request: January 29, 2018. A publicly-available version is in ADAMS under Accession No. ML18029A509.

Description of amendment request: The amendments would revise the Limerick Generating Station, Units 1 and 2, Technical Specifications (TSs). The proposed changes would lower the TS standby liquid control system (SLCS) surveillance requirement (SR) pump flowrate value, raise the TS SLCS SR Boron-10 enrichment value of the sodium pentaborate added to the SLCS tank, and expand the operating range in the sodium pentaborate solution temperature/concentration requirements figure. These changes will provide increased testing margin and operational flexibility.

Basis for proposed no significant hazards consideration determination: As required by 10 CFR 50.91(a), the licensee has provided its analysis of the issue of no significant hazards consideration, which is presented below:

1. Does the proposed change involve a significant increase in the probability or consequences of an accident previously evaluated?

Response: No.

The proposed changes will lower the SLCS TS SR pump flowrate value, raise the TS SLCS SR Boron-10 (B-10) Enrichment value of the Sodium Pentaborate added to the SLCS tank and expand the operating range contained in the TS Figure for Sodium Pentaborate Solution Temperature/Concentration Requirements. These changes will provide greater operating flexibility. The proposed changes will maintain plant operation within the bounds of the current analysis for the ATWS [anticipated transient without scram] events and for accident source term dose limits in the Loss of Coolant Accident (LOCA) analysis.

The proposed changes do not alter the physical design of any plant structure, system, or component; therefore, the proposed changes have no adverse effect on plant operation, or the availability or operation of any accident mitigation equipment. The plant response to the design basis accidents does not change. Operation or failure of the SLCS is not assumed to be an initiator of any analyzed event in the Updated Final Safety Analysis Report (UFSAR) and cannot cause an accident. The changes to the SLCS TS SRs are bounded by current analyses for the ATWS events and LOCA and therefore the changes do not adversely affect consequences of any accident previously evaluated.

The proposed changes conform to NRC regulatory requirements regarding ATWS events and AST [alternative source term] dose limits.

Therefore, the proposed changes do not involve a significant increase in the probability or consequences of an accident previously evaluated.

2. Does the proposed change create the possibility of a new or different kind of accident from any accident previously evaluated?

Response: No.

The proposed changes will lower the TS SLCS SR pump flowrate value, raise the TS SLCS SR B-10 Enrichment value of the Sodium Pentaborate added to the SLCS tank and expand the operating range in the Sodium Pentaborate Solution Temperature/Concentration Requirements Figure. These changes will provide greater operating flexibility. The proposed changes will maintain plant operation within the bounds of the current analysis for the ATWS events and for accident source term dose limits in the LOCA analysis.

The proposed changes do not alter the plant configuration (no new or different type of equipment is being installed) or require any new or unusual operator actions. The proposed changes do not alter the safety limits or safety analysis assumptions associated with the operation of the plant. The proposed changes do not introduce any new failure modes that could result in a new accident. The proposed changes do not reduce or adversely affect the capabilities of any plant structure, system, or component in the performance of their safety function. Also, the response of the plant and the operators following the design basis accidents is unaffected by the proposed changes.

Therefore, the proposed changes do not create the possibility of a new or different kind of accident from any accident previously evaluated.

3. Does the proposed change involve a significant reduction in a margin of safety?

Response: No.

The proposed changes will lower the TS SLCS SR pump flowrate value, raise the TS SLCS SR B-10 Enrichment value of the Sodium Pentaborate added to the SLCS tank and expand the operating range in the Sodium Pentaborate Solution Temperature/Concentration Requirements Figure. These changes will provide greater operating flexibility. The proposed changes will maintain plant operation within the bounds of the current analysis for the ATWS events and for accident source term dose limits in the LOCA analysis.

The proposed changes have no adverse effect on plant operation, or the availability or operation of any accident mitigation equipment. The plant response to the design basis accidents does not change. The proposed changes do not adversely affect existing plant safety margins or the reliability of the equipment assumed to operate in the safety analyses. There is no change being made to safety analysis assumptions, safety limits or limiting safety system settings that would adversely affect plant safety as a result of the proposed changes.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Southern Nuclear Operating Company, Inc., Docket Nos. 50-424 and 50-425, Vogtle Electric Generating Plant, Units 1 and 2 (VEGP), Burke County, Georgia

Date of amendment request: October 11, 2017. A publicly-available version is in ADAMS under Accession No. ML17284A348.

Description of amendment request: The proposed amendments would revise the VEGP Updated Final Safety Analysis Report (UFSAR) to incorporate a Tornado Missile Risk Evaluator (TMRE) Methodology based on Nuclear Energy Institute (NEI) 17-02, Revision 1, “Tornado Missile Risk (TMRE) Industry Guidance Document,” September 2017 (ADAMS Accession No. ML17268A036). This methodology can only be applied to discovered conditions where tornado missile protection is not currently provided, and cannot be used to avoid providing tornado missile protection in the plant modification process.

Basis for proposed no significant hazards consideration determination: As required by 10 CFR 50.91(a), the licensee has provided its analysis of the issue of no significant hazards consideration, which is presented below with staff edits in square brackets:

1. Does the proposed amendment involve a significant increase in the probability or consequences of an accident previously evaluated?

Response: No.

The proposed amendment does not involve an increase in the probability of an accident previously evaluated. The relevant accident previously evaluated is a Design Basis Tornado impacting the VEGP site. The probability of a Design Basis Tornado is driven by external factors and is not affected by the proposed amendment. There are no changes required to any of the previously evaluated accidents in the UFSAR.

The proposed amendment does not involve a significant increase in the consequences of a Design Basis Tornado. [The methodology as proposed does not alter any input assumptions or results of the accident analyses. Instead, it reflects a methodology to more realistically evaluate the probability of unacceptable consequences of a Design Basis Tornado. As such, there is no significant increase in the consequence of an accident previously evaluated. A similar consideration would apply in the event additional non-conforming conditions are discovered in the future.]

2. Does the proposed amendment create the possibility of a new or different kind of accident from any accident previously evaluated?

Response: No.

The proposed amendment will involve no physical changes to the existing plant, so no new malfunctions could create the possibility of a new or different kind of accident. The proposed amendment makes no changes to conditions external to the plant that could create the possibility of a new or different kind of accident. The proposed change will not create the possibility of a new or different kind of accident due to new accident precursors, failure mechanisms, malfunctions, or accident initiators not considered in the design and licensing bases. The existing Updated Final Safety Analysis Report (UFSAR) accident analysis will continue to meet requirements for the scope and type of accidents that require analysis.

Therefore, the proposed amendment does not create the possibility of a new or different kind of accident from any accident previously evaluated.

3. Does the proposed amendment involve a significant reduction in a margin of safety?

Response: No.

The proposed amendment does not exceed or alter any controlling numerical value for a parameter established in the UFSAR or elsewhere in the VEGP [licensing basis] related to design basis or safety limits. The change does not impact any UFSAR Chapter 6 or 15 Safety Analyses, and those analyses remain valid. The change does not reduce diversity or redundancy as required by regulation or credited in the UFSAR. The change does not reduce defense-in-depth as described in the UFSAR. Therefore, the proposed amendment does not involve a significant reduction in a margin of safety.

The NRC staff has reviewed the licensee's analysis as edited by the NRC staff and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35242.

NRC Branch Chief: Douglas A. Broaddus.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

PSEG Nuclear LLC and Exelon Generation Company, LLC, Docket Nos. 50-272 and 50-311, Salem Nuclear Generating Station, Unit Nos. 1 and 2, Salem County, New Jersey

Date of amendment request: February 8, 2018. A publicly-available version is in ADAMS under Accession No. ML18040A301.

Brief description of amendment request: The proposed amendments would modify the Salem Nuclear Generating Station, Unit Nos. 1 and 2, Technical Specification (TS)-allowed outage time for more than one inoperable analog rod position indicator from 1 hour to 24 hours and change the basis for entry into the TS actions for inoperable rod position indicators from “per bank” to “per group.” The proposed amendments would also separate existing TS 3.1.3.2.1, Action a.1, into two separate actions and would remove the duplicative Action b (Unit No. 1 only).

Date of publication of individual notice in Federal Register: March 1, 2018 (83 FR 8904).

Expiration date of individual notice: April 2, 2018 (public comments); April 30, 2018 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Energy Nuclear Connecticut, Inc., Docket Nos. 50-245, 50-336, and 50-423, Millstone Power Station, Unit Nos. 1, 2, and 3 (Millstone 1, 2, and 3), New London County, Connecticut

Date of amendment request: June 15, 2017.

Brief description of amendments: The amendments revised the facility operating licenses by replacing all references to the former company name, “Dominion Nuclear Connecticut, Inc.” (or DNC), with “Dominion Energy Nuclear Connecticut, Inc.” (or DENC), including the cover of the Environmental Protection Plan in Appendix B for Millstone 3 and the Design Features page for Millstone 1, 2, and 3. Additionally, references to DNC's former ultimate parent company, “Dominion Resources, Inc.,” were replaced with the new name “Dominion Energy, Inc.”

Date of issuance: February 26, 2018.

Effective date: As of the date of issuance and shall be implemented within 30 days.

Amendment Nos.: 118, 334, and 271. A publicly-available version is in ADAMS under Accession No. ML18038B200; documents related to these amendments are listed in the Safety Evaluation enclosed with the amendments.

Facility Operating License Nos. DPR-21, DPR-65, and NPF-49: The amendments revised the facility operating licenses and technical specifications.

Date of initial notice in Federal Register: October 10, 2017 (82 FR 47035) .

The Commission's related evaluation of the amendments is contained in a Safety Evaluation dated February 26, 2018.

No significant hazards consideration comments received: No.

Entergy Nuclear Operations, Inc., Docket No. 50-255, Palisades Nuclear Plant (PNP), Van Buren County, Michigan

Date of amendment request: November 1, 2017, as supplemented by letter dated January 24, 2018.

Brief description of amendment: The amendment revised the fire protection program transition license condition 2.C.(3)(c)2. by extending the full implementation date by one fuel cycle from the fall 2018 refueling outage to the summer 2020 refueling outage. The amendment also revised Paragraph 2.C.(3) of the Renewed Facility Operating License No. DPR-20 for PNP to incorporate the revised fire protection documentation and approvals.

Date of issuance: February 27, 2018.

Effective date: As of the date of issuance and shall be implemented within 60 days.

Amendment No.: 265. A publicly-available version is in ADAMS under Accession No. ML18039A244; documents related to this amendment are listed in the Safety Evaluation enclosed with the amendment.

Renewed Facility Operating License No. DPR-20: Amendment revised the Renewed Facility Operating License.

Date of initial notice in Federal Register: December 5, 2017 (82 FR 57472). The supplemental letter dated January 24, 2018, provided additional information that clarified the application, did not expand the scope of the application as originally noticed, and did not change the staff's original proposed no significant hazards consideration determination as published in the Federal Register.

The Commission's related evaluation of the amendment is contained in a Safety Evaluation dated February 27, 2018.

No significant hazards consideration comments received: No.

Exelon Generation Company, LLC, Docket Nos. 50-352 and 50-353, Limerick Generating Station, Units 1 and 2, Montgomery County, Pennsylvania

Date of amendment request: July 19, 2017, as supplemented by letters dated December 6, 2017; February 19, 2018; and February 27, 2018.

Brief description of amendments: The amendments revised the existing Technical Specification requirements related to “operations with a potential for draining the reactor vessel” with new requirements on reactor pressure vessel water inventory control to protect Safety Limit 2.1.4. Safety Limit 2.1.4 requires reactor pressure vessel water level to be greater than the top of active irradiated fuel. The changes are based on Technical Specifications Task Force Traveler TSTF-542, Revision 2, “Reactor Pressure Vessel Water Inventory Control.”

Date of issuance: February 27, 2018.

Effective date: As of the date of issuance and shall be implemented no later than May 31, 2019.

Amendment Nos.: 227 (Unit 1) and 190 (Unit 2). A publicly-available version is in ADAMS under Accession No. ML18017A201; documents related to these amendments are listed in the Safety Evaluation enclosed with the amendments.

Renewed Facility Operating License Nos. NPF-39 and NPF-85: Amendments revised the Renewed Facility Operating Licenses and Technical Specifications.

Date of initial notice in Federal Register: September 12, 2017 (82 FR 42848). The supplemental letters dated December 6, 2017; February 19, 2018; and February 27, 2018, provided additional information that clarified the application, did not expand the scope of the application as originally noticed, and did not change the NRC staff's original proposed no significant hazards consideration determination as published in the Federal Register.

The Commission's related evaluation of the amendments is contained in a Safety Evaluation dated February 27, 2018.

No significant hazards consideration comments received: No.

Exelon Generation Company, LLC, Docket Nos. 50-352 and 50-353, Limerick Generating Station, Units 1 and 2, Montgomery County, Pennsylvania

Date of amendment request: April 24, 2017.

Brief description of amendments: The amendments revised the existing technical specification (TS) requirements associated with the main condenser offgas monitoring instrumentation and gaseous effluents. Specifically, certain requirements are relocated from the TSs to licensee-controlled documents such that future changes can be made to these provisions pursuant to 10 CFR 50.59 or by the regulatory requirements applicable to the licensee-controlled document.

Date of issuance: February 28, 2018.

Effective date: As of the date of issuance and shall be implemented within 90 days.

Amendment Nos.: 228 (Unit 1) and 191 (Unit 2). A publicly-available version is in ADAMS under Accession No. ML18025B769; documents related to these amendments are listed in the Safety Evaluation enclosed with the amendments.

Renewed Facility Operating License Nos. NPF-39 and NPF-85: The amendments revised the Renewed Facility Operating Licenses and TSs.

Date of initial notice in Federal Register: July 5, 2017 (82 FR 31096).

The Commission's related evaluation of the amendments is contained in a Safety Evaluation dated February 28, 2018.

No significant hazards consideration comments received: No.

Exelon Generation Company, LLC, Docket No. 50-410, Nine Mile Point Nuclear Station, Unit 2, Oswego County, New York

Date of amendment request: May 31, 2017.

Brief description of amendment: The amendment revised the run time for Surveillance Requirement (SR) 3.6.4.3.1 for Technical Specification (TS) 3.6.4.3, “Standby Gas Treatment (SGT) System,” and SR 3.7.2.1 for TS 3.7.2, “Control Room Envelope Filtration (CREF) System.” The run time for SR 3.6.4.3.1 would be reduced from a continuous 10 hours to a continuous 15 minutes, and the run time for SR 3.7.2.1 would be reduced from 1 hour to 15 minutes at frequencies controlled in accordance with the Surveillance Frequency Control Program.

Date of issuance: March 6, 2018.

Effective date: As of the date of issuance and shall be implemented within 60 days of issuance.

Amendment No.: 166. A publicly-available version is in ADAMS under Accession No. ML18032A177; documents related to this amendment are listed in the Safety Evaluation enclosed with the amendment.

Renewed Facility Operating License No. NPF-69: The amendment revised the Renewed Facility Operating License and Technical Specifications.

Date of initial notice in Federal Register: August 1, 2017 (82 FR 35839). The Commission's related evaluation of the amendment is contained in a Safety Evaluation dated March 6, 2018.

No significant hazards consideration comments received: No.

Exelon Generation Company, LLC, Docket No. 50-219, Oyster Creek Nuclear Generating Station (Oyster Creek), Ocean County, New Jersey

Date amendment request: February 28, 2017, as supplemented by letters dated September 20 and November 10, 2017.

Brief description of amendment: The amendment changed the site emergency plan to revise the on-shift staffing and the Emergency Response Organization staffing for the permanently defueled condition.

Date of issuance: March 7, 2018.

Effective date: Following the docketing of the certifications required by 10 CFR 50.82(a)(1) that Oyster Creek has been permanently defueled and shall be implemented within 60 days, as noted, but will not exceed March 29, 2020.

Amendment No.: 293. A publicly-available version is in ADAMS under Accession No. ML17356A213; documents related to this amendment are listed in the Safety Evaluation enclosed with the amendment.

Renewed Facility Operating License No. DPR-16: Amendment revised the renewed facility operating license.

Date of initial notice in Federal Register; April 25, 2017 (82 FR 19103). The supplemental letters dated September 20 and November 10, 2017, provided additional information that clarified the application, did not expand the scope of the application as originally noticed, and did not change the staff's original proposed no significant hazards consideration determination as published in the Federal Register.

The Commission's related evaluation of the amendment is contained in a Safety Evaluation dated March 7, 2018.

No significant hazards consideration comments received: No.

FirstEnergy Nuclear Operating Company, et al., Docket Nos. 50-334 and 50-412, Beaver Valley Power Station, Unit Nos. 1 and 2, Beaver County, Pennsylvania

Date of amendment request: April 9, 2017.

Brief description of amendments: The amendments revised Technical Specifications Section 4.2.1, “Fuel Assemblies,” and Section 5.6.3, “Core Operating Limits Report (COLR),” to allow the use of Optimized ZIRLO™ as an approved fuel rod cladding material. In the letter dated April 9, 2017, the licensee also requested an exemption from certain requirements of 10 CFR 50.46 and 10 CFR part 50, Appendix K, in accordance with 10 CFR 50.12, to support the license amendments.

Date of issuance: March 1, 2018.

Effective date: As of the date of issuance and shall be implemented within 90 days.

Amendment Nos.: 302 (Unit No. 1) and 191 (Unit No. 2). A publicly-available version is in ADAMS under Accession No. ML18022B116; documents related to these amendments are listed in the Safety Evaluation enclosed with the amendments.

Renewed Facility Operating License Nos. DPR-66 and NPF-73: Amendments revised the Renewed Facility Operating Licenses and Technical Specifications.

Date of initial notice in Federal Register: July 18, 2017 (82 FR 32881).

The Commission's related evaluation of the amendments is contained in a Safety Evaluation dated March 1, 2018.

No significant hazards consideration comments received: No.

NextEra Energy Duane Arnold, LLC, Docket No. 50-331, Duane Arnold Energy Center (DAEC), Linn County, Iowa

Date of amendment request: March 24, 2017.

Brief description of amendment: The amendment revised the DAEC technical specification (TS) Table 3.3.2.1-1, “Control Rod Block Instrumentation,” by relocating certain cycle-specific Minimum Critical Power Ratio values to the DAEC Core Operating Limits Report. The amendment also adds a requirement to DAEC TS 5.6.5, “Core Operating Limits Report.”

Date of issuance: March 7, 2018.

Effective date: As of the date of its issuance and shall be implemented within 180 days of the date of issuance.

Amendment No.: 303. A publicly-available version is in ADAMS under Accession No. ML18011A059; documents related to this amendment are listed in the Safety Evaluation enclosed with the amendment.

Renewed Facility Operating License No. DPR-49: Amendment revised the Renewed Facility Operating License and Technical Specifications.

Date of initial notice in Federal Register: May 23, 2017 (82 FR 23627).

The Commission's related evaluation of the amendment is contained in a Safety evaluation dated March 7, 2018.

No significant hazards consideration comments received: No.

NextEra Energy Duane Arnold, LLC, Docket No. 50-331, Duane Arnold Energy Center (DAEC), Linn County, Iowa

Date of amendment request: April 20, 2017.

Brief description of amendment: The amendment revised the DAEC Technical Specification 3.1.2, “Reactivity Anomalies,” to change the method used to perform the reactivity anomaly surveillance. The new method would allow performance of the surveillance based on the difference between the monitored (i.e., actual) core reactivity and the predicted core reactivity. The surveillance is currently performed based on the difference between the monitored control rod density and the predicted control rod density.

Date of issuance: March 9, 2018.

Effective date: As of the date of issuance and shall be implemented within 90 days of the date of issuance.

Amendment No.: 304. A publicly-available version is in ADAMS under Accession No. ML18016A627; documents related to this amendment are listed in the Safety Evaluation enclosed with the amendment.

Renewed Facility Operating License No. DPR-49: The amendment revised the Technical Specifications.

Date of initial notice in Federal Register: June 19, 2017 (82 FR 27889).

The Commission's related evaluation of the amendment is contained in a Safety Evaluation dated March 9, 2018.

No significant hazards consideration comments received: No.

Northern States Power Company (NSPM), Docket No. 50-263, Monticello Nuclear Generating Plant, Wright County, Minnesota

Date of amendment request: March 24, 2017, as supplemented by letter dated September 20, 2017.

Brief description of amendment: The amendment revises the Monticello Nuclear Generating Plant Emergency Plan to increase the staff augmentation times for certain emergency response organization positions from 30 and 60 minutes to 60 and 90 minutes, respectively. Additionally, the amendment defines facility activation, removes references to augmenting resources from the Prairie Island Nuclear Generating Plant, removes a 30-minute Electrical Maintenance Responder, clarifies transfer of Direction and Control responsibilities, and implements various administrative changes to position titles, figures, etc.

Date of issuance: March 5, 2018.

Effective date: As of the date of issuance and shall be implemented within 180 days of issuance.

Amendment No.: 196. A publicly-available version is in ADAMS under Accession No. ML17349A916; documents related to this amendment are listed in the Safety Evaluation enclosed with the amendment.

Renewed Facility Operating License No. DPR-22: The amendment revised the Monticello Nuclear Generating Plant Site Emergency Plan.

Date of initial notice in Federal Register: May 9, 2017 (82 FR 21559). The supplemental letter dated September 20, 2017, provided additional information that clarified the application, did not expand the scope of the application as originally noticed, and did not change the staff's original proposed no significant hazards consideration determination as published in the Federal Register.

The Commission's related evaluation of the amendment is contained in a Safety Evaluation dated March 5, 2018.

No significant hazards consideration comments received: No.

Northern States Power Company—Minnesota, Docket No. 50-263, Monticello Nuclear Generating Plant, Wright County, Minnesota

Date of amendment request: March 31, 2017, as supplemented by letter dated September 25, 2017.

Brief description of amendment: The amendment revised the emergency action level scheme to one based on the Nuclear Energy Institute (NEI) document NEI 99 01, Revision 6, “Development of Emergency Action Levels for Non-Passive Reactors,” dated November 21, 2012. NEI 99-01, Revision 6, was endorsed by the NRC by letter dated March 28, 2013.

Date of issuance: March 6, 2018.

Effective date: As of the date of issuance and shall be implemented within 180 days of issuance.

Amendment No.: 197. A publicly-available version is in ADAMS under Accession No. ML17345A046; documents related to this amendment are listed in the safety evaluation enclosed with the amendment.

Renewed Facility Operating License No. DPR-22: The amendment revised the Monticello Nuclear Generating Plant Emergency Plan.

Date of initial notice in Federal Register: June 6, 2017 (82 FR 26134). The supplemental letter dated September 25, 2017, provided additional information that clarified the application, did not expand the scope of the application as originally noticed, and did not change the NRC staff's original proposed no significant hazards consideration determination as published in the Federal Register.

The Commission's related evaluation of the amendment is contained in a safety evaluation dated March 6, 2018.

No significant hazards consideration comments received: No.

Northern States Power Company, Docket Nos. 50-282 and 50-306, Prairie Island

Nuclear Generating Plant, Units 1 and 2, Goodhue County, Minnesota

Date of amendment request: February 23, 2017, as supplemented by letter dated September 20, 2017.

Brief description of amendments: The amendment revised the Prairie Island Nuclear Generating Plant, Units 1 and 2, Emergency Plan to increase the staff augmentation times for certain emergency response organization positions from 30 and 60 minutes to 60 and 90 minutes. Additionally, the changes defined facility activation, removed references to augmenting resources from the Monticello Nuclear Generating Plant, removed 30-minute Electrical Maintenance and 30-minute Radwaste Operator Responders, clarified transfer of Direction and Control responsibilities, and implemented various administrative changes to position titles, figures, etc.

Date of issuance: March 5, 2018.

Effective date: As of the date of issuance and shall be implemented within 180 days of issuance.

Amendment Nos.: 223—Unit 1; 210—Unit 2. A publicly-available version is in ADAMS under Accession No. ML17362A202; documents related to these amendments are listed in the Safety Evaluation enclosed with the amendments.

Renewed Facility Operating License Nos. DPR-42 and DPR-60: The amendments revised the Prairie Island Nuclear Generating Plant, Units 1 and 2, Emergency Plan.

Date of initial notice in Federal Register: April 11, 2017 (82 FR 17459). The supplemental letter dated September 20, 2017, provided additional information that clarified the application, did not expand the scope of the application as originally noticed, and did not change the staff's original proposed no significant hazards consideration determination as published in the Federal Register.

The Commission's related evaluation of the amendments is contained in a Safety Evaluation dated March 5, 2018.

No significant hazards consideration comments received: No.

Northern States Power Company—Minnesota, Docket Nos. 50-282 and 50-306, Prairie Island

Nuclear Generating Plant, Units 1 and 2, Goodhue County, Minnesota

Date of amendment request: March 29, 2017, as supplemented by letter dated September 27, 2017.

Brief description of amendments: The amendments revised the emergency action level scheme to one based on the Nuclear Energy Institute (NEI) document NEI 99-01, Revision 6, “Development of Emergency Action Levels for Non-Passive Reactors,” dated November 21, 2012. NEI 99-01, Revision 6, was endorsed by the NRC by letter dated March 28, 2013.

Date of issuance: March 6, 2018.

Effective date: As of the date of issuance and shall be implemented within 180 days of issuance.

Amendment Nos.: 224 (Unit 1) and 211 (Unit 2). A publicly-available version is in ADAMS under Accession No. ML17346A361; documents related to these amendments are listed in the safety evaluation enclosed with the amendments.

Renewed Facility Operating License Nos. DPR-42 and DPR-60: The amendments revised the Prairie Island Nuclear Generating Plant, Units 1 and 2, Emergency Plan.

Date of initial notice in Federal Register: May 23, 2017 (82 FR 23628). The supplemental letter dated September 27, 2017, provided additional information that clarified the application, did not expand the scope of the application as originally noticed, and did not change the NRC staff's original proposed no significant hazards consideration determination as published in the Federal Register.

The Commission's related evaluation of the amendments is contained in a safety evaluation dated March 6, 2018.

No significant hazards consideration comments received: No.

Omaha Public Power District, Docket No. 50-285, Fort Calhoun Station, Unit 1 (FCS), Washington County, Nebraska

Date of amendment request: March 31, 2017, as supplemented by letter dated September 26, 2017.

Brief description of amendment: The amendment revised the FCS renewed facility operating license, definitions, and Technical Specification (TS) sections to align with those required for the Permanently Defueled TS that will reflect decommissioning requirements.

Date of issuance: March 6, 2018.

Effective date: As of the date of issuance and shall be implemented within 90 days from the date of issuance.

Amendment No.: 297. A publicly-available version is in ADAMS under Accession No. ML18010A087; documents related to this amendment are listed in the Safety Evaluation enclosed with the amendment.

Renewed Facility Operating License No. DPR-40: The amendment revised the renewed facility operating license and TS.

Date of initial notice in Federal Register: June 6, 2017 (82 FR 26135). The supplemental letter dated September 26, 2017, provided additional information that clarified the application, did not expand the scope of the application as originally noticed, and did not change the NRC staff's original proposed no significant hazards consideration determination as published in the Federal Register.

The Commission's related evaluation of the amendment is contained in a Safety Evaluation dated March 6, 2018.

No significant hazards consideration comments received: No.

Southern Nuclear Operating Company, Docket Nos. 50-348 and 50-364, Joseph M. Farley Nuclear Plant, Units 1 and 2, Houston County, Alabama

Date of amendment request: November 15, 2016, as supplemented by letters dated June 22, 2017; September 11, 2017; October 12, 2017; and February 9, 2018.

Brief description of amendments: The amendments revise Technical Specification 5.5.17, “Containment Leakage Rate Testing Program.” Specifically, the amendments increased the existing Type A integrated leakage rate test program test interval from 10 years to 15 years; adopted an extension of the containment isolation valve leakage testing (Type C) frequency from 60 months to 75 months; adopted the use of American National Standards Institute/American Nuclear Society (ANSI/ANS) 56.8-2002, “Containment System Leakage Testing Requirements”; and adopted a grace interval of 9 months for Type A, Type B, and Type C leakage tests, in accordance with Nuclear Energy Institute (NEI) 94-01, Revision 2-A and Revision 3-A, “Industry Guideline for Implementing Performance-Based Option of 10 CFR part 50, Appendix J.”

Date of issuance: February 28, 2018.

Effective date: As of the date of issuance and shall be implemented within 60 days of issuance.

Amendment Nos.: 217 (Unit 1) and 214 (Unit 2). A publicly-available version is in ADAMS under Accession No. ML17261A087; documents related to these amendments are listed in the Safety Evaluation enclosed with the amendments.

Renewed Facility Operating License Nos. NPF-2 and NPF-8: The amendments revised the Renewed Facility Operating Licenses and Technical Specifications.

Date of initial notice in Federal Register: January 3, 2017 (82 FR 161). The supplemental letters dated June 22, 2017; September 11, 2017; October 12, 2017; and February 9, 2018, provided additional information that clarified the application, did not expand the scope of the application as originally noticed, and did not change the staff's original proposed no significant hazards consideration determination as published in the Federal Register.

The Commission's related evaluation of the amendments is contained in a Safety Evaluation dated February 28, 2018.

No significant hazards consideration comments received: No.

Southern Nuclear Operating Company, Docket Nos. 50-348 and 50-364, Joseph M. Farley Nuclear Plant, Units 1 and 2, Houston County, Alabama

Date of amendment request: March 22, 2017.

Brief description of amendments: The amendment revised Technical Specification 3.7.1, “Main Steam Safety Valves (MSSVs),” to resolve a non-conservative moderator temperature coefficient value.

Date of issuance: March 1, 2018.

Effective date: As of the date of issuance and shall be implemented within 90 days of issuance.

Amendment Nos.: 218 (Unit 1) and 215 (Unit 2). A publicly-available version is in ADAMS under Accession No. ML17291A781; documents related to these amendments are listed in the Safety Evaluation enclosed with the amendments.

Renewed Facility Operating License Nos. NPF-2 and NPF-8: The amendments revised the Renewed Facility Operating Licenses and Technical Specifications.

Date of initial notice in Federal Register: May 9, 2017 (82 FR 21562).

The Commission's related evaluation of the amendments is contained in a Safety Evaluation dated March 1, 2018.

No significant hazards consideration comments received: No.

Southern Nuclear Operating Company, Docket Nos. 52-025 and 52-026, Vogtle Electric Generating Plant (VEGP), Units 3 and 4, Burke County, Georgia

Date of amendment request: September 22, 2017, as supplemented by letter dated January 19, 2018.

Description of amendments: The amendment authorized changes to the VEGP, Units 3 and 4, Updated Final Safety Analysis Report in the form of departures from the incorporated plant-specific Design Control Document Tier 2 and Tier 2* information to modify the licensing requirements for the American Society of Mechanical Engineers (ASME) Class 1 piping component analysis from limited to design-by-rule evaluations described in ASME Section III, NB-3600, to include the ability to perform design-by-analysis evaluations, as described in ASME Section III, NB-3200.

Date of issuance: February 22, 2018.

Effective date: As of the date of issuance and shall be implemented within 30 days of issuance.

Amendment Nos.: 109 (Unit 3) and 108 (Unit 4). A publicly-available version is in ADAMS under Accession No. ML18026A765; documents related to these amendments are listed in the Safety Evaluation enclosed with the amendment.

Facility Combined Licenses Nos. NPF-91 and NPF-92: Amendment revised the Facility Combined License.

Date of initial notice in Federal Register: October 24, 2017 (82 FR 49241). The supplement dated January 19, 2018, provided additional information that clarified the application, did not expand the scope of the application as originally noticed, and did not change the NRC staff's original proposed no significant hazards consideration determination.

The Commission's related evaluation of the amendments is contained in the Safety Evaluation dated February 22, 2018.

No significant hazards consideration comments received: No.

Dated at Rockville, Maryland, on March 19, 2018.
For the Nuclear Regulatory Commission.
Kathryn M. Brock,
Deputy Director, Division of Operating Reactor Licensing, Office of Nuclear Reactor Regulation.

[FR Doc. 2018-05905 Filed 3-26-18; 8:45 am]

BILLING CODE 7590-01-P